NATIONAL SECURITY COMMISSION ON ARTIFICIAL INTELLIGENCE

[Docket No.: 1-2021-03]

National Security Commission on Artificial Intelligence; Notice of Extension of Federal Advisory Committee Meeting

AGENCY: National Security Commission on Artificial Intelligence.

ACTION: Notice of extension of Federal Advisory Committee meeting.

SUMMARY: The National Security Commission on Artificial Intelligence (the “Commission”) is publishing this notice to announce the administrative extension of an asynchronous Federal Advisory Committee meeting and paper review process. The meeting will be closed to the public.

DATES: Closed to the public, the asynchronous meeting date is extended from February 14, 2021 to February 28, 2021.

FOR FURTHER INFORMATION CONTACT: Ms. Angela Ponmakha, 703-614-6379 (Voice), nscai-dfo@nscai.gov. Mailing address: Designated Federal Officer, National Security Commission on Artificial Intelligence, 2530 Crystal Drive, Box 45, Arlington, VA 22202. Website: https://www.nscai.gov.

SUPPLEMENTARY INFORMATION: As referred to in the Commission's original Federal Register notice (85 FR 76613), the meeting and paper review process are being held to consider the Commission's draft classified annex. Due to circumstances beyond the control of the Commission—including travel and social distancing restrictions on in-person meetings imposed by the COVID-19 pandemic—the Commission will be unable to complete the review process of the classified annex. As such, the Commission is administratively extending the asynchronous meeting period previously scheduled to end on or about February 14, 2021 by two weeks, to February 28, 2021. As described in the original notice, individual commissioners or small groups of commissioners may meet with Commission staff during this period of time to review, discuss, and deliberate specifically on the Commission's draft classified annex. All materials and discussions are expected to be classified.

Meeting Accessibility: In accordance with Section 10(d) of the FACA, NSCAI has determined the series of meetings and paper approval process will be closed to the public. Specifically, the Commission's Committee Management Officer, in consultation with the General Services Administration's Secretariat and Office of General Counsel, has determined in writing that the meetings will be closed to the public because they will consider matters covered by 5 U.S.C. 552b(c)(1). The determination is based on the consideration that it is expected that discussions throughout the course of each meeting and the paper approval process will involve classified matters of national security concern. Such classified material is so intertwined with the unclassified material that it cannot be reasonably segregated into separate discussions without defeating the effectiveness and meaning of the overall meetings. To permit the meetings to be open to the public would preclude discussion of such matters and would greatly diminish the ultimate utility of the Commission's findings and recommendations to the Congress and the President.

Written Statements: Written comments may be submitted to the Commission at any time regarding its mission or in response to the stated agenda of planned meetings via email to: nscai-dfo@nscai.gov in either Adobe Acrobat or Microsoft Word format. The DFO will compile all written submissions and provide them to the Commissioners for consideration. Please note that all submitted comments will be treated as public documents and will be made available for public inspection, including, but not limited to, being posted on the Commission's website.

Dated: January 29, 2021.
Michael Gable,
Chief of Staff.

[FR Doc. 2021-02261 Filed 2-3-21; 8:45 am]

BILLING CODE 3610-Y8-P